DEPARTMENT OF ENERGY

Federal Energy Regulatory Commission

[Project No. 3442-029]

City of Nashua, New Hampshire; Notice of Application Ready for Environmental Analysis and Soliciting Comments, Recommendations, Terms and Conditions, and Prescriptions

Take notice that the following license application has been filed with the Commission and is available for public inspection.

a. Type of Application: New License.

b. Project No.: P-3442-029.

c. Date filed: July 30, 2021.

d. Applicant: City of Nashua (Nashua).

e. Name of Project: Mine Falls Hydroelectric Project.

f. Location: The existing project is located on the Nashua River in Hillsborough County, New Hampshire. The project does not affect federal lands.

g. Filed Pursuant to: Federal Power Act 16 U.S.C. 791(a)-825(r).

h. Applicant Contact: James W. Donchess, Mayor, City of Nashua, 229 Main Street, P.O. Box 2019, Nashua, NH 03060; (603) 589-3260; or email at NasuaMayor@nashuanh.gov.

i. FERC Contact: Khatoon Melick, (202) 502-8433, or email at khatoon.melick@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERC.aspx. Commenters can submit brief comments up to 6,000 characters, without prior registration, using the eComment system at https://ferconline.ferc.gov/Quick.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Mine Falls Hydroelectric Project (P-3442-029).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. The existing project consists of: (1) A 242-acre impoundment with a normal storage volume of 1,970 acre-feet and a normal headpond elevation of 158.76 feet (NAVD 88); (2) a rock filled concrete cap, variable in height dam with an approximately 132-foot-long spillway at a permanent crest elevation of 154.66 feet, and nominal 4.0-foot-high wooden flashboards maintaining a normal headpond elevation of 158.76 feet; (3) a 22-foot-wide and 170-foot-long reinforced concrete power canal located between the right bank of the Nashua River and the single flood sluice gate; (4) two 12.5-foot-long wooden stoplog bays located immediately upstream of the intake to the right of the concrete capped spillway (viewed facing downstream) with a 10-foot-wide gate and a short spillway section above the gate; (5) a 40-foot-wide, 20-foot-high intake structure with steel trash rack with two square-to-round transition openings that feed the two penstocks that terminate at the two turbines; (6) two 64-foot-long, 104-inch-diameter steel penstocks between the intake and turbine units; (7) a 44-foot-long, 44-foot-wide multi-level reinforced concrete powerhouse containing two 1,500 kilowatt turbine-generator units; (8) an approximately 22-foot-wide, 1,100-foot-long tailrace that is a channel cut into the Nashua River bedrock downstream of the powerhouse that returns water back into the Nashua River; (9) a 278-foot-long bypassed reach extending from the spillway crest and stoplog bays to the downstream of the powerhouse at the tailrace, bypassing 20 cubic feet per second (cfs) of water for environmental flows; (10) an upstream fish passage; (11) a 610-foot-long, 34.5-kilovolt underground transmission line connects the generator transformer to the interconnect point; and (12) appurtenant facilities. The estimated gross head of the project is 38 feet. The powerplant has a maximum nameplate capacity of 3 megawatts. The project generates an annual average of 12,563 megawatt-hours.

Nashua proposes to continue to operate the project in a run-of-river mode with no storage or flood control capacity. The project operates within a flow range of 180 cfs (150 cfs minimum hydraulic capacity to start a single turbine, plus 20 cfs minimum flow release at the dam into the bypassed reach and a 10 cfs flow routed through the Mill Pond gatehouse to the Mill Pond and canal) and 1,100 cfs (maximum hydraulic capacity of the plant—two turbines combined) or a river flow of 1,130 cfs. Any flow above the maximum hydraulic capacity of the turbines plus minimum flows and Mill Pond diversion is spilled over the dam spillway and through the overflow section of the flood sluice gate.

m. A copy of the application can be viewed on the Commission's website at http://www.ferc.gov using the “eLibrary” link. Enter the docket number excluding the last three digits in the docket number field to access the document. For assistance, contact FERC Online Support.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

n. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

o. Procedural schedule: The application will be processed according to the following schedule. Revisions to the schedule will be made as appropriate.

Milestone | Target date
Deadline for Filing Comments, Recommendations, and Agency Terms and Conditions/Prescriptions | January 2024.
Licensee's Reply to REA Comments | March 2024.

p. Final amendments to the application must be filed with the Commission no later than 30 days from the issuance date of this notice.

Dated: November 21, 2023.
Debbie-Anne A. Reese,
Deputy Secretary.

[FR Doc. 2023-26165 Filed 11-27-23; 8:45 am]

BILLING CODE 6717-01-P